DEPARTMENT OF TRANSPORTATION

Federal Transit Administration

[Docket No. FTA-2005-22657]

RIN 2132-AA85

Charter Service Negotiated Rulemaking Advisory Committee

AGENCY: Federal Transit Administration (FTA), DOT.

ACTION: Notice of meeting location and time of the meeting.

SUMMARY: This notice lists the location and time of the next Charter Bus Negotiated Rulemaking Advisory Committee (CBNRAC) meeting.

DATES: August 29, 2006.

FOR FURTHER INFORMATION CONTACT: Elizabeth Martineau, Attorney-Advisor, Office of the Chief Counsel, Federal Transit Administration, 202-366-1936 (elizabeth.martineau@dot.gov). Her mailing address at the Federal Transit Administration is 400 Seventh Street, SW., Room 9316, Washington, DC 20590.

SUPPLEMENTARY INFORMATION:

Meeting Location

The Radisson Hotel, 2020 Jefferson Davis Highway, Arlington, VA 22202 (Crystal City).

Meeting Time

September 12, 9 a.m.-4:30 p.m.

September 13, 8:30 a.m.-4 p.m.

Issued this 23rd day of August, 2006, in Washington DC,
James S. Simpson,
Administrator.

[FR Doc. 06-7213 Filed 8-28-06; 8:45am]

BILLING CODE 4911-57-M